CONSUMER PRODUCT SAFETY COMMISSION

16 CFR Parts 1000, 1025, 1051, 1052, and 1502

[CPSC Docket No. CPSC-2023-0038]

Disclosure of Interests in Commission Proceedings

AGENCY: Consumer Product Safety Commission.

ACTION: Termination of rulemaking.

SUMMARY: The Consumer Product Safety Commission is withdrawing its proposed rule to amend its regulations to require disclosure of relevant interests by persons seeking to make oral presentations, participate in adjudicative proceedings, or submit petitions for rulemaking to the Commission because the Commission has not taken any action on this proposed rule since it was published in September 2023.

DATES: As of August 28, 2025, the proposed rule published on September 29, 2023, at 88 FR 67127, is withdrawn.

ADDRESSES: Consumer Product Safety Commission, 4330 East-West Highway, Bethesda, MD 20814.

FOR FURTHER INFORMATION CONTACT: Hilda M. Garcia Concepcion, Division of Federal Court Litigation, Office of the General Counsel, 4330 East-West Highway, Bethesda, MD 20814; telephone: 301-504-7548; hgarciaconcepcion@cpsc.gov.

SUPPLEMENTARY INFORMATION: The Commission encourages all interested stakeholders, particularly including consumers and consumer organizations, to participate actively in the agency's decision-making processes. Opportunities for public contributions include appearances at public hearings before the Commission, participation in adjudicative proceedings, and petitioning for rulemaking, among other opportunities. To that end, 16 CFR part 1025 establishes the Commission's Rules of Practice for Adjudicative Proceedings (“Rules of Practice”); 16 CFR part 1051 sets out the Procedures for Petitioning for Rule Making; 16 CFR part 1052 provides the Procedural Regulations for Informal Oral Presentations in Proceedings before the Commission; and 16 CFR part 1502 contains the Procedures for Formal Evidentiary Public Hearing.

On September 29, 2023, CPSC published a notice of proposed rulemaking (NPR) stating the Commission's intention to amend its regulations to require disclosures of financial interests and sources of funding and other contributions by those seeking to present oral testimony, request rulemaking before the Commission, or participate in an adjudicative proceeding, as well as to require disclosure of certain corporate affiliations. The Commission received two comments on the proposed rule. No further action was taken by the Commission after the NPR was published.

This Commission finds that this proposal would impose heightened disclosure requirements that could chill public participation in Commission proceedings, duplicates existing federal mandates, and needlessly burdens stakeholders and consumers. The proposal also raises First Amendment concerns. The Commission believes that any Presiding Officer or the Commission itself can fully evaluate any testimony, participation or argument under current rules without new regulations that could be perceived as discouraging candor and make it harder for all members of the public to be heard. Because the Commission has not taken action on this proposed rule since 2023, the Commission is terminating this proceeding.¹ In the future, the Commission may consider revisions to the Rules to establish disclosure requirements for persons seeking to make certain appearances before the Commission in light of its experience with public appearances at public hearings before the Commission, participation in adjudicative proceedings, and petitioning for rulemaking.

¹ On August 23, 2025, the Commission voted unanimously to publish in the Federal Register this notice of withdrawal of the proposed rule titled Disclosure of Interests in Commission Proceedings.

Alberta E. Mills,
Secretary, Consumer Product Safety Commission.

[FR Doc. 2025-16548 Filed 8-27-25; 8:45 am]

BILLING CODE 6355-01-P